DEPARTMENT OF STATE

[Public Notice: 11325]

In the Matter of the Designation of Ansarallah (and other Aliases) as a Foreign Terrorist Organization

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Ansarallah, also known as Ansar Allah; also known as Ansarullah; also known as Partisans of God; and also known as Supporters of God. Therefore, I hereby designate the aforementioned organization and its aliases as a foreign terrorist organization pursuant to section 219 of the INA.

This determination shall be published in the Federal Register.

Dated: January 12, 2021.
Michael R. Pompeo,
Secretary of State.

[FR Doc. 2021-01001 Filed 1-15-21; 8:45 am]

BILLING CODE 4710-AD-P